DEPARTMENT OF AGRICULTURE

Animal and Plant Health Inspection Service

9 CFR Part 11

[Docket No. APHIS-2011-0030]

RIN 0579-AD43

Horse Protection Act; Requiring Horse Industry Organizations To Assess and Enforce Minimum Penalties for Violations; Correction

AGENCY: Animal and Plant Health Inspection Service, USDA.

ACTION: Correcting amendment.

SUMMARY: In a final rule that was published in the Federal Register on June 7, 2012, and effective on July 9, 2012, we amended the horse protection regulations to require horse industry organizations or associations that license Designated Qualified Persons to assess and enforce minimum penalties for violations of the Horse Protection Act. This document corrects an error in that final rule.

DATES: Effective May 9, 2013.

FOR FURTHER INFORMATION CONTACT: Dr. Rachel Cezar, Horse Protection National Coordinator, Animal Care, APHIS, 4700 River Road, Unit 84, Riverdale, MD 20737; (301) 851-3746.

SUPPLEMENTARY INFORMATION:

Background

In a final rule that was published in the Federal Register on June 7, 2012 (77 FR 33607-33619, Docket No. APHIS-2011-0030), and effective on July 9, 2012, we amended the horse protection regulations in 9 CFR part 11 to require horse industry organizations or associations that license Designated Qualified Persons to assess and enforce minimum penalties for violations of the Horse Protection Act. We established the minimum penalties in a new § 11.25.

As part of this change, we amended paragraph (d) of § 11.21 to indicate that horse industry organizations or associations are required to assess and enforce penalties for violations in accordance with § 11.25. Before the publication of the June 2012 final rule, this paragraph also indicated that horse industry organizations or associations had to report all violations in accordance with § 11.20(b)(3). However, in revising § 11.21(d) to reflect the new minimum penalty requirements, we erroneously changed the paragraph reference in the existing reporting requirement to § 11.20(b)(4), which does not exist. This document corrects that error.

List of Subjects in 9 CFR Part 11

Animal welfare, Horses, Reporting and recordkeeping requirements.

Accordingly, 9 CFR part 11 is corrected by making the following correcting amendment:

PART 11—HORSE PROTECTION REGULATIONS

1. The authority citation for part 11 continues to read as follows:

Authority: 15 U.S.C. 1823-1825 and 1828; 7 CFR 2.22, 2.80, and 371.7.

§ 11.21 [Amended]

2. In § 11.21, paragraph (d), the citation “§ 11.20(b)(4)” is removed and the citation “§ 11.20(b)(3)” is added in its place.

Done in Washington, DC, this 3rd day of May 2013.
Kevin Shea,
Acting Administrator, Animal and Plant Health Inspection Service.

[FR Doc. 2013-11028 Filed 5-8-13; 8:45 am]

BILLING CODE 3410-34-P